DEPARTMENT OF TRANSPORTATION

National Highway Traffic Safety Administration

[Docket No. NHTSA-2015-00104; Notice 2]

Extension of Comment Period on Whether Nonconforming Model Year 2013 and 2014 Ferrari F12 Berlinetta Passenger Cars Are Eligible for Importation

AGENCY: National Highway Traffic Safety Administration (NHTSA), Department of Transportation (DOT).

ACTION: Extension of comment period.

SUMMARY: This document announces the extension of the comment period on a petition for NHTSA to decide that model year 2013 and 2014 Ferrari F12 Berlinetta passenger cars that were not originally manufactured to comply with all applicable Federal motor vehicle safety standards are eligible for importation into the United States.

DATES: The new closing date for comments on the petition is February 6, 2017.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE., Washington, DC 20590.

• Hand Delivery: Deliver comments by hand to U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by logging onto the Federal Docket Management System (FDMS) Web site at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the Internet at https://www.regulations.gov by following the online instructions for accessing the dockets. The docket ID number for this petition is shown in the heading of this notice.

DOT's complete Privacy Act Statement is available for review in a Federal Register notice published on April 11, 2000, (65 FR 19477-78).

FOR FURTHER INFORMATION CONTACT: George Stevens, Office of Vehicle Safety Compliance, NHTSA (202 366 5308).

SUPPLEMENTARY INFORMATION: On December 7, 2016, NHTSA published a notice (at 81 FR 88318) that it had received a petition to decide that nonconforming model year (MY) 2013 and 2014 Ferrari F12 Berlinetta passenger cars (PCs) are eligible for importation into the United States. The notice solicited public comments on the petition and stated that the closing date for comments is January 6, 2017.

This is to notify the public that NHTSA is extending the comment period on this petition, and allowing it to run until February 6, 2017. This extension is based on a request dated December 21, 2016, from Ferrari North America, Inc., and Ferrari SpA, (collectively “Ferrari”) the vehicle's manufacturer. Ferrari stated that in its view an extension was needed because a portion of the comment period will be lost due to the holidays (during which time Ferrari SpA's facilities will be closed), and because of the complexity of the technical analysis necessary to evaluate the petition and prepare any comments. Ferrari requests this extension especially with regard to FMVSS No. 208 conformance—in particular, the passenger-side airbag weight sensing system.

Ferrari also stated its view that an extension of the comment period will not prejudice the parties or cause undue delay, but will afford Ferrari the opportunity to fully evaluate the petition in order to determine the appropriate content of any Ferrari comments.

NHTSA has granted Ferrari's request. All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(A), (a)(1)(B), and (b)(1); 49 CFR 593.7; delegation of authority at 49 CFR 1.95 and 501.8.

Jeffrey M. Giuseppe,
Director, Office of Vehicle Safety Compliance.

[FR Doc. 2016-31889 Filed 1-3-17; 8:45 am]

BILLING CODE 4910-59-P